ENVIRONMENTAL PROTECTION AGENCY

[EPA-HQ-OPP-2010-0196; FRL-8817-5]

Pirimicarb; Product Cancellation Order for Certain Pesticide Registrations

AGENCY: Environmental Protection Agency (EPA).

ACTION: Notice.

SUMMARY: This notice announces EPA's order for the cancellation of products containing the pesticide pirimicarb, pursuant to section 3 of the Federal Insecticide, Fungicide, and Rodenticide Act (FIFRA), as amended. This cancellation order follows a February 21, 2004 expiration of conditional registrations. Any distribution, sale, or use of the products subject to this cancellation order is permitted only in accordance with the terms of this order, including any existing stocks provisions.

DATES: The cancellations are effective April 21, 2010.

FOR FURTHER INFORMATION CONTACT: Olga Odiott, Registration Division, Office of Pesticide Programs, Environmental Protection Agency, 1200 Pennsylvania Ave., NW., Washington, DC 20460-0001; telephone number: (703) 308-9369; fax number: (703) 305-6920; e-mail address: odiott.olga@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2010-0196. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the expiration of products registered under section 3 of FIFRA. This notice also serves as a cancellation order to provide for existing stocks of affected products. These registrations are listed in sequence by registration number in Table 1 of this unit.

Table 1.—Pirimicarb Product Cancellations
EPA Registration Number | Product Name
100-1072 | Pirimicarb Technical
100-1073 | Pirimidor 50-DF Insecticide

Table 2 of this unit includes the name and address of record for the registrant of the products in Table 1 of this unit.

Table 2.—Registrants of Cancelled Products
EPA Company Number | Company Name and Address
100 | Syngenta Crop Protection Inc. P.O. Box 18300 Greensboro, NC 27419-8300

III. Cancellation Order

Pursuant to FIFRA section 3, EPA hereby announces the expiration of pirimicarb registrations identified in Table 1 of Unit II. The Agency considers the expiration of a time limited registration to be a cancellation under section 3 of FIFRA, for purposes of section 6(a)(1) of FIFRA. Any distribution, sale, or use of existing stocks of the cancelled products identified in Table 1 of Unit II in a manner inconsistent with any of the Provisions for Disposition of Existing Stocks set forth in Unit IV will be considered a violation of FIFRA.

IV. Provisions for Disposition of Existing Stocks

1. The registrant may continue to sell or distribute existing stocks of pirimicarb products identified in Table 1 of Unit II with previously approved labeling until September 30, 2011.

2. Persons other than the registrant may continue to sell or distribute existing stocks of pirimicarb products identified in Table 1 of Unit II with previously approved labeling until such stocks are exhausted.

3. Persons other than the registrant may use existing stocks of pirimicarb products identified in Table 1 of Unit II until existing stocks are exhausted. Any existing stocks must be used in a manner consistent with the previously approved labeling for that product.

List of Subjects

Environmental protection, Pesticides and pests.

Dated: April 1, 2010.
Lois Rossi,
Director, Registration Division, Office of Pesticide Programs

[FR Doc. 2010-8931 Filed 4-20-10; 8:45 am]

BILLING CODE 6560-50-S